DEPARTMENT OF COMMERCE

Office of the Secretary

Strengthening America's Communities Advisory Committee

AGENCY: Office of the Secretary, Department of Commerce.

ACTION: Notice of open meetings.

SUMMARY: The Strengthening America's Communities Advisory Committee (the “Committee”) will convene public meetings on (i) Wednesday, June 1, 2005 to receive public comments on issues germane to the Committee's work and (ii) Thursday, June 2, 2005 to continue discussions on its high-level examination of key policy issues pertaining to the President's Strengthening America's Communities Initiative (the “Initiative”).

DATES: Wednesday, June 1, 2005, beginning at 3 p.m. (EDT); and Thursday, June 2, 2005, beginning at 8:30 a.m. (EDT).

ADDRESSES: The meetings will take place at the Harborview Center, 300 Cleveland Street, Clearwater, Florida 33755.

FOR FURTHER INFORMATION CONTACT: Mr. Robert E. Olson, Designated Federal Officer of the Committee, Economic Development Administration, Department of Commerce, Room 7015, 1401 Constitution Avenue, NW., Washington, DC 20230; telephone (202) 482-4495; facsimile (202) 482-2838; e-mail: saci@eda.doc.gov. Please note that any correspondence sent by regular mail may be substantially delayed or suspended in delivery, since all regular mail sent to the Department of Commerce (the “Department”) is subject to extensive security screening. For information about the Initiative, please visit the Department's Web site at http://www.commerce.gov/SACI/index.htm.

SUPPLEMENTARY INFORMATION: The meeting will be open to the public and seating will be available, but may be limited. Reservations are not accepted. Requests for sign language interpretation and other auxiliary aids must be transmitted by facsimile or e-mail to the contact person listed above no later than May 25, 2005.

The prospective agendas for the Committee meetings are as follows: June 1, 2005: Public Comment Period; and General Discussion of Committee Business; June 2, 2005: Call to Order; Opening Remarks; and Review and Discussion of Key Committee Issues.

Members of the public will have the opportunity to present oral comments to the Committee on June 1, 2005. The Committee values most those public comments that bear upon issues under direct examination by the Committee, rather than issues unrelated to the Committee's current scope of discussion. Members of the public may also submit written statements to the contact person listed above at any time before or after the meeting. However, to facilitate distribution of written statements to Committee members, the Committee suggests that written statements be submitted to the Designated Federal Officer listed above by facsimile or e-mail no later than May 25, 2005.

The above agendas are subject to change. More detailed agendas (including details on the public comment portion of the meeting) will be posted on the Department's Web site at http://www.commerce.gov/SACI/index.htm, and a final agenda will be made available to the public prior to the Committee meetings.

Dated: May 11, 2005.
David Bearden,
Deputy Assistant Secretary of Commerce for Economic Development.

[FR Doc. 05-9759 Filed 5-16-05; 8:45 am]

BILLING CODE 3510-24-P